DEPARTMENT OF EDUCATION

Small, Rural School Achievement Program

AGENCY: Office of Elementary and Secondary Education, Department of Education.

ACTION: Notice announcing application deadline.

Catalog of Federal Domestic Assistance (CFDA) Number 84.358A.

SUMMARY: Under the Small, Rural School Achievement (SRSA) Program, the U.S. Department of Education (Department) awards grants on a formula basis to eligible local educational agencies (LEAs) to address the unique needs of rural school districts. In this notice, we establish the deadline for submission of fiscal year (FY) 2008 SRSA grant applications.

An eligible LEA that is required to submit an application must do so electronically by the deadline in this notice. If it submits its application after this deadline, the LEA will receive a grant award only to the extent that funds are available after the Department awards grants to other eligible LEAs under the program.

Application Deadline: June 30, 2008, 4:30 p.m. Washington, DC time.

SUPPLEMENTARY INFORMATION:

Which LEAs Are Eligible for an Award Under the SRSA Program?

An LEA is eligible for an award under the SRSA program if—

(a) The total number of students in average daily attendance at all of the schools served by the LEA is fewer than 600, or each county in which a school served by the LEA is located has a total population density of fewer than 10 persons per square mile; and

(b) All of the schools served by the LEA are designated with a school locale code of 7 or 8 by the Department's National Center for Education Statistics (using the NCES school locale methodology in place at the time of NCLB's enactment), or the Secretary has determined, based on a demonstration by the LEA and concurrence of the SEA, that the LEA is located in an area defined as rural by a governmental agency of the State.

Which Eligible LEAs Must Submit an Application To Receive a FY 2008 SRSA Grant Award?

An eligible LEA must submit an application to receive a FY 2008 SRSA grant award if it falls under any of the following categories:

1. The LEA never submitted an application for SRSA funds in any prior year;

2. The LEA received an SRSA grant award for FY 2005 and, as of February 15, 2008, had not drawn down from the Department's Grant Administration and Payment System any of its FY 2005 SRSA funds; or

3. The LEA received an SRSA grant award for FY 2006 and, as of March 31, 2008, had not drawn down from the Department's Grant Administration and Payment System any of its FY 2006 SRSA funds.

Under the regulations in 34 CFR 75.104(a), the Secretary makes grants only to an eligible party that submits an application. Given the limited purpose served by the application under the SRSA program, the Secretary considers the application requirement to be met if the LEA submitted an SRSA application for any prior year and does not fall under any of the categories listed above requiring the submission of a new application. In this circumstance, unless the LEA advises the Secretary by the application deadline that it is withdrawing its application, the Secretary deems the application that the LEA previously submitted to remain in effect for FY 2008 funding, and the LEA does not have to submit an additional application.

We intend to provide, by May 23, 2008, a list of LEAs eligible for FY 2008 funds on the Department's Web site at http://www.ed.gov/programs/reapsrsa/index.html under the “Eligibility” hyperlink. The Web site will also indicate which of these eligible LEAs must submit a new application to the Department to receive their FY 2008 SRSA grant award, and which eligible LEAs are considered already to have met the application requirement.

Eligible LEAs that must submit a new application in order to receive FY 2008 SRSA funds must do so electronically by the deadline established in this notice.

Electronic Submission of Applications

An eligible LEA that is required to submit an application to receive FY 2008 SRSA funds must submit an electronic application by June 30, 2008, 4:30 p.m., Washington, DC time. Submission of an electronic application involves the use of the Department's Electronic Grant Application System (e-Application) available through the Department's e-GRANTS system.

You can access the electronic application for the SRSA Program at: http://e-grants.ed.gov.

Once you access this site, you will receive specific instructions regarding the information to include in your application.

The regular hours of operation of the e-Grants Web site are 6 a.m. Monday until 7 p.m. Wednesday; and 6 a.m. Thursday until midnight, Saturday (Washington, DC time). Please note that the system is unavailable on Sundays, Federal holidays, and after 7 p.m. on Wednesdays for maintenance (Washington, DC time).

FOR FURTHER INFORMATION CONTACT: Mr. Eric Schulz, U.S. Department of Education, 400 Maryland Avenue, SW., room 3E108, Washington, DC 20202. Telephone: (202) 401-0039 or via Internet: reap@ed.gov.

If you use a telecommunications device for the deaf (TDD), you may call the FRS at 1-800-877-8339.

Individuals with disabilities may obtain this notice in an alternative format (e.g., Braille, large print, audiotape, or computer diskette) on request to the contact person listed under FOR FURTHER INFORMATION CONTACT.

Electronic Access to This Document: You can view this document, as well as other Department of Education documents published in the Federal Register, in text or Adobe Portable Document Format (PDF), on the Internet at the following site: http://www.ed.gov/news/fedregister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO Access at: http://www.gpoaccess.gov/nara/index.html.

Program Authority: 20 U.S.C. 7345-7345b.

Dated: June 3, 2008.
Kerri L. Briggs,
Assistant Secretary for Elementary and Secondary Education.

[FR Doc. E8-12744 Filed 6-5-08; 8:45 am]

BILLING CODE 4000-01-P